DEPARTMENT OF COMMERCE

International Trade Administration

Initiation of Antidumping and Countervailing Duty Administrative Reviews

AGENCY: Import Administration, International Trade Administration, Department of Commerce.

SUMMARY: The Department of Commerce (the Department) has received requests to conduct administrative reviews of various antidumping and countervailing duty orders and findings with March anniversary dates. In accordance with the Department's regulations, we are initiating those administrative reviews.

EFFECTIVE DATE: April 27, 2007.

FOR FURTHER INFORMATION CONTACT: Sheila E. Forbes, Office of AD/CVD Operations, Customs Unit, Import Administration, International Trade Administration, U.S. Department of Commerce, 14th Street and Constitution Avenue, N.W., Washington, D.C. 20230, telephone: (202) 482-4697.

SUPPLEMENTARY INFORMATION:

Background

The Department has received timely requests, in accordance with 19 CFR 351.213(b)(2004), for administrative reviews of various antidumping and countervailing duty orders and findings with March anniversary dates.

Initiation of Reviews:

In accordance with section 19 CFR 351.221(c)(1)(i), we are initiating administrative reviews of the following antidumping and countervailing duty orders and findings. We intend to issue the final results of these reviews not later than March 31, 2008.

Antidumping Duty Proceedings | Period to be Reviewed
BRAZIL: Certain Hot-Rolled Carbon Steel Flat Products
A-351-828 | 3/1/06 - 2/28/07
Companhia Siderurgica Nacional
Companhia Siderurgica de Tubarao
BRAZIL: Certain Orange Juice
A-351-840 | 8/24/05 - 2/28/07
Coinbra-Frutesp S.A.
Fischer S/A Agroindustria
Sucocitrico Cutrale Ltda.
FRANCE: Stainless Steel Bar
A-427-820 | 3/1/06 - 2/28/07
Ascometal S.A.
UGITECH S.A.
GERMANY: Stainless Steel Bar
A-428-830 | 3/1/06 - 2/28/07
BGH Edelstahl Freital
GmbH/BGH Edelstahl Lippendorf GmbH/BGH Edelstahl Lugau GmbH/BGH Edelstahl Siegen GmbH
Schmiedewerke Groditz GmbH
ITALY: Stainless Steel Bar
A-475-829 | 3/1/06 - 2/28/07
Acciaierie Valbruna S.p.A.
REPUBLIC OF KOREA: Certain Cut-to-Length Carbon Steel Plate¹
A-580-836 | 2/1/06 - 1/31/07
TC Steel
DSEC, a subsidiary of Daewoo Shipbuilding & Marine Engineering
THAILAND: Circular Welded Carbon Steel Pipes and Tubes
A-549-502 | 3/1/06 - 2/28/07
Saha Thai Steel Pipe Company, Ltd.
THE PEOPLE'S REPUBLIC OF CHINA: Certain Tissue Paper Products²
A-570-894 | 3/1/06 - 2/28/07
Foshan Sansico Co., Ltd.
Guangzhou Baxi Printing Products Limited
Guilin Qifeng Paper Co., Ltd.
Guilin Samsam Paper Products Ltd.
Max Fortune Industrial Limited/Max Fortune (FETDE) Paper Products Co., Ltd.
PT Grafitecindo Ciptaprima
PT Printec Perkasa
PT Printec Perkasa II
PT Sansico Utama
Samsam Production Limited
Sansico Asia Pacific Limited
Vietnam Quijiang Paper Co., Ltd.
THE PEOPLE'S REPUBLIC OF CHINA: Glycine³
A-570-836 | 3/1/06 - 2/28/07
A.H.A. International Company, Ltd.
Amol Biotech Limited
Baoding Mantong Fine Chemistry Co., Ltd.
Beijing Jian Li Pharmaceutical Company
Changzhou Dahua Importer and Exporter (Group)
Chem-Base (Nantong) Laboratories Company
China Container Line (USA)
Dongchang Chemical Industrial Company
Jizhou City Huayang Chemical Company, Ltd.
Nantong Dongchang Chemical Industry Corporation
Orichem International Ltd.
Qingdao Samin Chemical Company, Ltd.
Shanghai Dayue International
Shanghai Light Industrial
Shanghai Waseta International
Sinochem Qingdao Company Ltd.
Sinosweet Company, Ltd.
Sumee China Jiangsu Machinery
Sumec (On Behalf of Nantong)
Textiles Silk Light Ind. Products
Tianjin Tiancheng Pharmaceutical Company
Weifang Sunwin Chemicals Company, Ltd.
Yicheng Logistics Shanghai Ltd.
Zhejiang Ruili Cemented Carbide
UNITED KINGDOM: Stainless Steel Bar
A-412-822 | 3/1/06 - 2/28/07
Corus Engineering Steels
Enpar Special Alloys Limited
Sandvik Bioline
Countervailing Duty Proceedings
TURKEY: Certain Welded Carbon Steel Standard Pipe
C-489-502 | 1/1/06 - 12/31/06
The Borusan Group/Borusan Mannesmann Boru
Sanayi ve Ticaret A.S./Borusan Istikbal Ticaret T.A.S.
Suspension Agreements
None.
¹ The companies listed for the above referenced case were inadvertently omitted from the initiation notice that published on March 28, 2007 (72 FR 14516).
² If one of the above-named companies does not qualify for a separate rate, all other exporters of Certain Tissue Paper Products from the People's Republic of China who have not qualified for a separate rate are deemed to be covered by this review as part of the single PRC entity of which the named exporters are a part.
³ If one of the above-named companies does not qualify for a separate rate, all other exporters of Glycine from the People's Republic of China who have not qualified for a separate rate are deemed to be covered by this review as part of the single PRC entity of which the named exporters are a part.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v.United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: April 23, 2007.
Stephen J. Claeys,
Deputy Assistant Secretary for Import Administration.

[FR Doc. E7-8129 Filed 4-26-07; 8:45 am]

BILLING CODE 3510-DS-S